DEPARTMENT OF COMMERCE

Economic Development Administration

[Docket No. 101004488-0488-01]

Solicitation of Applications for the Public Works, Economic Adjustment Assistance, and Global Climate Change Mitigation Incentive Fund (GCCMIF) Economic Development Assistance Programs

AGENCY: Economic Development Administration (EDA), Department of Commerce.

ACTION: Notice and request for applications.

SUMMARY: This notice announces new application submission and review procedures for FY 2011 funding under EDA's (i) Public Works and Economic Development Facilities Program; (ii) Economic Adjustment Assistance Program; and (iii) Global Climate Change Mitigation Incentive Fund (GCCMIF) Program. To enhance the competitiveness, transparency, and efficiency of EDA's grants-making process and ensure timely responsiveness to applicants, in FY 2011 EDA will move to a funding cycle system under which applications submitted under these programs will be considered for funding roughly once a quarter. Beginning on October 14, 2010, applications will still be accepted on a continuing basis but must be received by the deadlines set out below in order to be considered for funding during a particular cycle. Eligible applicants have the option of receiving preliminary feedback on an application's technical and competitive merits by submitting the application for an optional preliminary review as described in section V.A. of the Federal Funding Opportunity (FFO) announcement, which is posted on EDA's Web site at http://www.eda.gov/InvestmentsGrants/Grant%20Process.xml. EDA will provide such feedback not later than 15 business days after EDA's receipt of the application, and applicants will have the opportunity to revise and/or supplement the application as necessary or submit a new application by the funding cycle deadline or in time for consideration in a subsequent funding cycle. Applicants that elect to receive such feedback should take care to submit the application sufficiently in advance of a funding cycle deadline so that EDA can provide the feedback and the applicant can make any changes and/or provide additional documentation or submit a new application by the funding cycle deadline. EDA will not select projects for funding until after the funding cycle deadline has passed. Applications may be submitted electronically in accordance with the instructions provided at http://www.grants.gov or in hard copy to the applicable regional office. Please see sections IV. and V. of the FFO for complete information on the new application submission and processing procedures.

Deadlines: Beginning in FY 2011, EDA will accept and review applications submitted under its Public Works, Economic Adjustment Assistance, and GCCMIF Programs in funding cycles. To be considered during a particular funding cycle, complete applications must be accepted and validated by http://www.grants.gov or delivered in hard copy to the applicable regional office listed in section IX. of the FFO with a postmark or courier service's time and date stamp on or before 5 p.m. local time in the applicable regional office on the deadline date for the funding cycles listed below. For FY 2011, the funding cycle deadlines are as follows:

• December 15 for funding cycle 1;

• March 10 for funding cycle 2;

• June 10 for funding cycle 3; and

• September 15 for funding cycle 1 of FY 2012.

Please note that applications for financial assistance submitted under EDA's Planning, Partnership Planning, Local Technical Assistance, University Center, and Research and National Technical Assistance Programs are not subject to the deadlines described above, and requirements for these programs will be published in separate FFO announcements. In addition, applications for any supplemental appropriations that EDA receives will not be subject to the deadlines published in this notice, and EDA will publish a separate FFO for any such appropriations. Please contact the applicable regional office listed in section IX. of the FFO for additional information on submitting an application under any of EDA's programs.

ADDRESSES:

Obtaining Application Packages. An eligible applicant may obtain the appropriate application package electronically at http://www.grants.gov. All components of the appropriate application package may be accessed and downloaded (in a screen-fillable format) at http://www.grants.gov/applicants/apply_for_grants.jsp. Applicants may access the application package by following the instructions provided at http://www.grants.gov. The preferred electronic file format for attachments is portable document format (PDF); however, EDA will accept electronic files in Microsoft Word, WordPerfect, or Microsoft Excel. Alternatively, an applicant eligible for assistance under this notice may request a paper (hard copy) application package by contacting the applicable EDA regional office listed below under “Addresses and Telephone Numbers for EDA's Regional Offices” and in section IX. of the FFO.

Application Submission Formats: Applications may be submitted either electronically in accordance with the procedures provided at http://www.grants.gov; or in paper (hard copy) format to the applicable regional office address provided below. The content of applications is the same for paper submissions as it is for electronic submissions. EDA will not accept facsimile or email transmissions of applications.

Electronic Submissions: EDA strongly encourages electronic submissions of applications through http://www.grants.gov. Applications must be successfully validated and time-stamped by http://www.grants.gov no later than 5 p.m. local time for the applicable regional office on the funding cycle deadline listed above under “DEADLINES” and in section V.C. of the FFO.

Applicants are strongly encouraged to start early and not to wait until an approaching funding cycle deadline before logging in, registering, reviewing the application instructions, and applying. Applicants must register (which can take between three to five business days or as long as four weeks if all steps are not completed correctly), designate one or more Authorized Organizational Representatives (AOR), ensure that an AOR submits the application, and verify that the submission was successful. Applicants should save and print written proof of an electronic submission made at http://www.grants.gov. If problems occur, the applicant is advised to (a) print any error message received, and (b) call the http://www.grants.gov Contact Center, which is open 24 hours a day, seven days a week, at 1-800-518-4726 for assistance. The following link lists useful resources: http://www.grants.gov/help/help.jsp. Also, the following link lists frequently asked questions (FAQs): http://www.grants.gov/applicants/resources.jsp#faqs. If you do not find an answer to your question under the “Applicant FAQs,” try consulting the “Applicant User Guide” or contacting http://www.grants.gov via e-mail at support@grants.gov or the Contact Center via telephone at 1-800-518-4726. In addition, please read carefully section V.H. of the FFO for complete information on submitting electronically via http://www.grants.gov.

Paper Submissions: An applicant also has the option of submitting a completed paper (hard copy) application to the applicable regional office listed in section IX. of the FFO. Applications must be delivered to the applicable regional office with a postmark or courier service's time and date stamp on or before 5 p.m. local time in the applicable regional office on the applicable funding cycle deadline. The applicant must submit one original and two copies of the completed application package via postal mail or express courier to the applicable regional office. Department of Commerce (DOC) mail security measures may delay receipt of United States Postal Service mail for up to two weeks. Therefore, applicants that submit paper applications are advised to use guaranteed overnight delivery services.

Addresses and Telephone Numbers for EDA's Regional Offices:

Applicants in Alabama, Florida, Georgia, Kentucky, Mississippi, North Carolina, South Carolina, and Tennessee, may submit paper submissions to: Economic Development Administration, Atlanta Regional Office, 401 West Peachtree Street, NW., Suite 1820, Atlanta, Georgia 30308, Telephone: (404) 730-3002, Fax: (404) 730-3025.

Applicants in Arkansas, Louisiana, New Mexico, Oklahoma, and Texas, may submit paper submissions to: Economic Development Administration, Austin Regional Office, 504 Lavaca, Suite 1100, Austin, Texas 78701-2858, Telephone: (512) 381-8144, Fax: (512) 381-8177.

Applicants in Illinois, Indiana, Michigan, Minnesota, Ohio, Wisconsin, and Muscatine and Scott counties, Iowa, may submit paper submissions to: Economic Development Administration, Chicago Regional Office, 111 North Canal Street, Suite 855, Chicago, Illinois 60606, Telephone: (312) 353-7706, Fax: (312) 353-8575.

Applicants in Colorado, Iowa (excluding Muscatine and Scott counties), Kansas, Missouri, Montana, Nebraska, North Dakota, South Dakota, Utah, and Wyoming, may submit paper submissions to: Economic Development Administration, Denver Regional Office, 410 17th Street, Suite 250, Denver, Colorado 80202, Telephone: (303) 844-4714, Fax: (303) 844-3968.

Applicants in Connecticut, Delaware, District of Columbia, Maine, Maryland, Massachusetts, New Hampshire, New Jersey, New York, Pennsylvania, Puerto Rico, Rhode Island, Vermont, U.S. Virgin Islands, Virginia, and West Virginia, may submit paper submissions to: Economic Development Administration, Philadelphia Regional Office, Curtis Center, 601 Walnut Street, Suite 140 South, Philadelphia, Pennsylvania 19106, Telephone: (215) 597-4603, Fax: (215) 597-1063.

Applicants in Alaska, American Samoa, Arizona, California, Guam, Hawaii, Idaho, Marshall Islands, Micronesia, Nevada, Northern Mariana Islands, Oregon, Republic of Palau, and Washington, may submit paper submissions to: Economic Development Administration, Seattle Regional Office, Jackson Federal Building, Room 1890, 915 Second Avenue, Seattle, Washington 98174, Telephone: (206) 220-7660, Fax: (206) 220-7669.

SUPPLEMENTARY INFORMATION: EDA's New Application Submission and Review Procedures. This notice announces EDA's new application submission and review procedures for three of the agency's Economic Development Assistance Programs authorized under the Public Works and Economic Development Act of 1965, as amended (42 U.S.C. 3121 et seq.) (PWEDA). These programs are the (i) Public Works and Economic Development Facilities Program; (ii) Economic Adjustment Assistance Program; and (iii) Global Climate Change Mitigation Incentive Fund (GCCMIF) Program. EDA will publish separate FFO announcements for its other Economic Development Assistance Programs: Planning, Partnership Planning, University Center, and Research and National Technical Assistance.

This notice introduces the concept of funding cycles in the context of EDA's grants-making process for the three programs. In FY 2011, EDA will discontinue its process of processing projects on a continuing basis and will implement a new process under which the agency will consider applications under its Public Works, Economic Adjustment Assistance, and GCCMIF Programs at a set time in roughly quarterly funding cycles. This new process will enhance the competitiveness, transparency, and efficiency of EDA's grants-making process, and it will also allow EDA to be more responsive to applicants. Applicants will receive an answer from EDA sooner and will be able to better plan for their economic development needs.

EDA will continue to accept applications on a continuing basis, but if an applicant wishes to be considered for a particular funding cycle, EDA must receive a complete application as set out in section V.B. of the FFO by the deadlines announced above under “DEADLINES” and in section V.C. of the FFO.

EDA will evaluate all applications based on the criteria set out below under “Evaluation Criteria” and in section IV.A. of the FFO. Please read the following sections carefully for complete information on EDA's programs and the new application procedures that will take effect in FY 2011.

Note: In instances of extremely urgent economic distress, EDA reserves the flexibility to make an award outside of the funding cycles described in this notice. An example of urgent economic distress might be helping a community respond to the sudden loss of a major employer by using Economic Adjustment Assistance to prepare a recovery strategy. Any such awards will be processed in accord with the evaluation criteria set out below under “Evaluation Criteria” and in section IV.A. of the FFO.

What are the purposes of EDA's Economic Development Assistance Programs? EDA's mission is to lead the Federal economic development agenda by promoting innovation, collaboration, and competitiveness, preparing American regions for growth and success in the worldwide economy. In implementing this mission pursuant to PWEDA, EDA advances economic growth by assisting communities and regions experiencing chronic high unemployment and low per capita income to foster an environment conducive to economic growth and job creation.

EDA's Economic Development Assistance Programs are designed to provide distressed communities and regions with comprehensive and flexible solutions to a wide variety of economic impacts. The programs are designed to support local and regional economic development efforts to establish a foundation for durable regional economies throughout the United States. This foundation builds upon two key economic drivers—innovation and regional collaboration. Innovation is the key to global competitiveness, the creation of new and better jobs, a resilient economy, and the attainment of national economic goals. Regional collaboration is essential for economic recovery because regions are the centers of competition in the new global economy, and those regions that work together will fare better than those that do not. When innovation and collaboration are infused into America's communities and regions, they create and retain higher wage and sustainable jobs, leverage the flow of private capital, encourage economic development, and strengthen America's ability to compete in the global marketplace. EDA encourages its rural and urban partners around the country to develop initiatives that advance new ideas and creative approaches to address rapidly evolving economic conditions. EDA's Economic Development Assistance Programs will help communities and regions understand their current economic situation, plan a way forward, and achieve their economic goals.

Under this notice, EDA publishes its application submission requirements and review procedures for three of the Economic Development Assistance Programs authorized under PWEDA: (i) Public Works and Economic Development Facilities; (ii) Economic Adjustment Assistance; and (iii) GCCMIF.

What goals and objectives does EDA seek to advance with grants made under the Economic Development Assistance Programs? EDA encourages the submission of only those applications that will significantly benefit regions with economically distressed economies. Such distress may exist in a variety of forms, including high levels of unemployment, low income levels, large concentrations of low-income families, significant declines in per capita income, large numbers (or high rates) of business failures, sudden major layoffs or plant closures, trade impacts, military base closures or realignments, defense contractor reductions-in-force, natural or other major disasters, depletion of natural resources, reduced tax bases, or substantial loss of population because of the lack of employment opportunities. EDA's experience has shown that regional economic development to help alleviate these conditions is effected primarily through investments and decisions made by the private sector.

EDA encourages applicants to consider the energy and environmental implications of their activities. To the extent practicable, and dependent upon the project type and in consideration of the financial resources available, EDA expects recipients to use the best available strategies, technologies, and construction practices in order to minimize energy use and environmental impacts. Applicants are encouraged to ensure the project's consistency with the Climate Action Plan of the State in which the proposed project will be located, if applicable, and any applicable Federal, State, or local government's coastal climate change plan. The U.S. Environmental Protection Agency's Web site contains more information on State Climate Action Plans and can help determine if a particular State has one. See http://www.epa.gov/statelocalclimate/index.html.

EDA also encourages projects that advance the innovation economy and support the development of regional innovation clusters (RICs), which are broadly defined as geographic concentrations of firms and industries that do business with each other and have common needs for talent, technology, and infrastructure. The White House's National Economic Council's Web site has more information on the innovation economy at http://www.whitehouse.gov/administration/eop/nec/StrategyforAmericanInnovation/. More information on RICs may be found on EDA's Web site at http://www.eda.gov/AboutEDA/RIC/. Please also see section I.C. of the FFO for more information.

The program descriptions, eligibility information, application requirements, review and selection procedures, and evaluation criteria in this notice apply to EDA's FY 2011 Public Works, Economic Adjustment Assistance, and GCCMIF Programs. This announcement is being published in anticipation of the final availability of FY 2011 appropriations, to provide the economic development community with notice regarding EDA's new application procedures. EDA will publish separate announcements that detail the final amounts available in FY 2011 and any programmatic or procedural changes from this notice.

Statutory Authorities for EDA's Programs: The statutory authorities for the Public Works and Economic Development Facilities Program and the Economic Adjustment Assistance Program are sections 201 (42 U.S.C. 3141) and 209 (42 U.S.C. 3149) of PWEDA, respectively.

Applicant eligibility and program requirements are set forth in EDA's regulations (codified at 13 CFR chapter III) and the applicant must address these requirements. Please note that this notice supersedes the Economic Development Assistance Programs FFO dated June 22, 2009, and current EDA regulations on program objectives and priorities, application procedures, evaluation criteria, and selection procedures. EDA expects to update its regulations to reflect these changes in the near future. EDA's regulations and PWEDA are available at http://www.eda.gov/InvestmentsGrants/Lawsreg.xml.

What funding is available under this notice? As of October 14, 2010, the full amount of FY 2011 appropriations is not available and EDA is operating under the authority of the FY 2011 Continuing Resolution, Public Law 111-242, September 30, 2010. The FY 2010 award amounts are provided only for your information. EDA is operating under a continuing resolution that allocates a level of funding based on FY 2010 funding levels, but on a pro-rated basis, until the enactment of the FY 2011 appropriations. Assuming EDA receives FY 2011 appropriations of approximately the same level as in FY 2010, the following amounts may prove useful for planning purposes.

In FY 2010, the Consolidated Appropriations Act, 2010 (Pub. L. 111-117, 123 Stat. 3034 at 3114 (2009)) made $255,000,000 available for the Economic Development Assistance Programs authorized under PWEDA and for the Trade Adjustment Assistance for Firms Program authorized under the Trade Act of 1974 (19 U.S.C. 2341 et seq.) in FY 2010. EDA expects funding levels for FY 2011 to be similar to that in FY 2010, however the final amounts will not be known until Congress passes the FY 2011 appropriations. When the full FY 2011 appropriations become available, EDA will publish a notice to announce the final FY 2011 funding levels for each program. The funding periods and funding amounts referenced in this notice are subject to the availability of funds at the time of award, as well as to DOC and EDA priorities at the time of award. Neither DOC nor EDA will be held responsible for application preparation costs. Publication of this notice does not obligate DOC or EDA to award any specific grant or cooperative agreement or to obligate all or any part of available funds.

The following sections provide more information on EDA's Economic Development Assistance Programs. Specific FY 2011 funding amounts for each program will be announced separately upon availability.

1. Public Works and Economic Development Facilities Program (CFDA No. 11.300; 13 CFR Part 305)

EDA will provide strategic Public Works investments to support the construction or rehabilitation of essential public infrastructure and facilities to help communities and regions leverage their resources and strengths to create new and better jobs, drive innovation, become centers of competition in the global economy, and ensure resilient economies. For example, EDA may provide funding to a consortium of District Organizations to support the construction of a technology center that provides laboratory, office, and manufacturing space and leverages the resources of local universities, entrepreneurial networks, and the District Organizations themselves to provide comprehensive assistance to technology-oriented businesses with significant growth potential.

EDA allocated $133,280,000 for the Public Works and Economic Development Facilities Program in FY 2010. The average size of a Public Works investment was approximately $1.7 million, though investments ranged in size from $500,000 to $2,000,000.

2. Economic Adjustment Assistance Program (CFDA No. 11.307; 13 CFR Part 307)

Through the Economic Adjustment Assistance Program, EDA provides a wide range of construction and non-construction assistance, including public works, technical assistance, strategies, and revolving loan fund (RLF) projects, in regions experiencing severe economic dislocations that may occur suddenly or over time. This program is designed to respond flexibly to pressing economic recovery issues and is well suited to help address challenges faced by U.S. communities and regions. For example, EDA might provide funding to a university or community college to launch a Regional Innovation Cluster (RIC) strategy that supports or provides technical assistance to smaller manufacturers to promote the growth of varied industrial clusters, stem job losses in manufacturing businesses as a result of foreign competition, accelerate the commercialization of research, support high-growth entrepreneurship, and promote the successful diversification of the region's economy.

EDA will continue to consider applications from communities experiencing adverse economic changes due to base realignment and closures (BRAC) and Federally declared disasters when awarding assistance from FY 2011 Economic Adjustment Assistance Program funds. EDA will help American workers, businesses, and communities affected by military base closures or realignments; defense contractor reductions in force; Federally declared disasters; or economic deterioration due to other disasters, by providing assistance for planning, coordinating the use of Federal resources available to support economic development recovery, and developing regionally focused economic recovery and growth strategies.

EDA allocated $38,620,000 to the Economic Adjustment Assistance Program in FY 2010. The average size of an Economic Adjustment investment was approximately $550,000, though investments ranged from $100,000 to $1,250,000.

3. Global Climate Change Mitigation Incentive Fund

From amounts otherwise made available for the Economic Development Assistance Programs authorized under PWEDA, EDA generally allocates funds for the GCCMIF to support projects that foster economic competitiveness while enhancing environmental quality. EDA anticipates that these funds will be used to advance the green economy by supporting projects that create jobs through and increase private capital investment in initiatives to limit the nation's dependence on fossil fuels, enhance energy efficiency, curb greenhouse gas emissions, and protect natural systems. GCCMIF assistance is available to finance a variety of sustainability focused projects, including renewable energy end-products, the greening of existing manufacturing functions or processes, and the creation of certified green facilities. For example, EDA might provide funding to a non-profit working in cooperation with a county to construct a technology-focused business incubator that achieves platinum status under the U.S. Green Building Council's Leadership in Energy and Environmental Design (LEED) rating system and to expand job training opportunities in industrial and green technologies.

An applicant seeking funding for an eligible project that will be funded exclusively or mostly from the GCCMIF should apply in the same manner that it would apply for Economic Adjustment Assistance Program funding. The applicant must include in the project narrative a detailed explanation of how the proposed project will help advance the goals of the GCCMIF. For more information on the goals of this initiative, contact the designated point of contact listed in section IX. of the FFO for the EDA regional office servicing your geographic area.

EDA allocated $25,000,000 in FY 2010 for the GCCMIF. The average size of a GCCMIF investment was approximately $840,000, though investments ranged from $200,000 to $1,500,000.

Please note that all of the above examples, average funding estimates, and ranges are informational only and are not intended to restrict future awards. Please also see section II.A. of the FFO.

What type of funding instrument will be used to make awards and how long will project periods be? Subject to the availability of funds, EDA may award grants or enter into cooperative agreements with an eligible applicant in order to provide funding for eligible investment activities. Project periods are dependent on the nature of the project and the EDA program under which the grant or cooperative agreement for the project is awarded. The project period generally depends upon the project scope of work. For example, the project period for a construction investment under EDA's Public Works Program may last for three years until construction is completed satisfactorily; while a strategy investment under EDA's Economic Adjustment Assistance Program may allow for one to three years for completion of the scope of work, depending on its complexity and/or urgency. EDA expects that all projects will proceed efficiently and expeditiously and encourages investments with demonstrated capacity to be implemented quickly and effectively, accelerating positive economic impacts.

Applicant Eligibility. Pursuant to PWEDA, eligible applicants for and eligible recipients of EDA investment assistance include a(n): (i) District Organization; (ii) Indian Tribe or a consortium of Indian Tribes; (iii) State, city, or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3.

For-profit, private-sector entities are not eligible for investment assistance under PWEDA. In addition, EDA is not authorized to provide grants directly to individuals or to for-profit entities seeking to start or expand a private business. Such requests may be referred to State or local agencies, or to non-profit economic development organizations serving the region in which such a project will be located.

Economic Distress Requirements. Applicants are responsible for demonstrating to EDA the nature and level of economic distress in the region impacted by the proposed project. Applicants also are responsible for defining the region that the project will assist and must provide supporting statistics and other information, as appropriate. To be eligible under this notice, the project must be located in a region that, on the date EDA receives the application for investment assistance, meets one (or more) of the following economic distress criteria: (i) An unemployment rate that is, for the most recent 24 month period for which data are available, at least one percentage point greater than the national average unemployment rate; (ii) per capita income that is, for the most recent period for which data are available, 80 percent or less of the national average per capita income; or (iii) a “Special Need,” as determined by EDA and as discussed below under “Special Need Criteria” and in section VII. of the FFO. See section 301 of PWEDA (42 U.S.C. 3161) and 13 CFR 301.3. EDA will evaluate the economic dislocations in the impacted region defined by the applicant and any supporting data provided by the applicant.

EDA reviews project eligibility at the time a complete application is received in the regional office. For economic distress levels based upon the unemployment rate or per capita income requirements, EDA will base its determination on the most recent American Community Survey (ACS) published by the U.S. Census Bureau for either: the region impacted by the proposed project, the geographic area where substantial direct project-related benefits will occur, or the geographic area of poverty or high unemployment, as applicable. If a recent ACS is not available to determine project eligibility, EDA will base its decision on the most recent Federal data from other sources (e.g., data available from the Census Bureau and the Bureaus of Economic Analysis, Labor Statistics, and Indian Affairs). If no Federal data are available, an applicant must submit to EDA the most recent data available through the government of the State in which the region is located (i.e., conducted by or at the direction of the State government). See section 301 of PWEDA (42 U.S.C. 3161) and 13 CFR 301.3. Other data may be submitted, as appropriate, to substantiate eligibility based on a “Special Need” (see “Special Need Criteria” below and section VII. of the FFO). The project must be eligible on the date EDA receives the application. In the case of an application received by EDA more than six months before the time of award, EDA will re-evaluate the project to determine continued eligibility for EDA investment assistance before making an award. EDA will reject any documentation of eligibility that it determines is inaccurate or incomplete, which may cause the application to be rejected.

What is the cost sharing or matching requirement? Generally, the amount of the EDA grant may not exceed 50 percent of the total cost of the project. Projects may receive an additional amount that shall not exceed 30 percent, based on the relative needs of the region in which the project will be located, as determined by EDA. See section 204(a) of PWEDA (42 U.S.C. 3144) and 13 CFR 301.4(b)(1).

In the case of EDA investment assistance to a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to 100 percent of the total project cost. See sections 204(c)(1) and (2) of PWEDA (42 U.S.C. 3144) and 13 CFR 301.4(b)(5). Potential applicants should contact the appropriate EDA regional office regarding these determinations.

In the application review process, EDA will consider the nature of the contribution (cash or in-kind) and the amount of the matching share funds. EDA will give preference to applications that include cash contributions (over in-kind contributions) as the matching share. While cash contributions are preferred, in-kind contributions, consisting of contributions of space, equipment, or services, or forgiveness or assumptions of debt, may provide the required non-Federal share of the total project cost. See section 204(b) of PWEDA (42 U.S.C. 3144). EDA will fairly evaluate all in-kind contributions, which must be eligible project costs and meet applicable Federal cost principles and uniform administrative requirements. Funds from other Federal financial assistance awards are considered matching share funds only if authorized by statute, which may be determined by EDA's reasonable interpretation of the statute. See 13 CFR 300.3. The applicant must show that the matching share is committed to the project for the project period, will be available as needed and is not conditioned or encumbered in any way that precludes its use consistent with the requirements of EDA investment assistance. See 13 CFR 301.5.

Evaluation Criteria. EDA will evaluate applications based on their ability to satisfy the following core evaluation criteria, with each criterion assigned the weight indicated:

1. National Strategic Priorities. (30%)

EDA seeks to fund applications that encourage job growth and business expansion, as well as promoting one or more of the following initiatives:

• Technology-led economic development,

• Support to small- and medium-sized businesses,

• Global competitiveness and innovation,

• Responses to economic dislocation because of auto industry restructuring or natural disasters,

• Commercialization of research, and/or

• Environmentally sustainable development.

2. Economically Distressed and Underserved Communities (25%)

EDA seeks to fund applications that strengthen diverse communities that have suffered disproportionate economic and job losses or long-term severe economic distress, and/or are rebuilding to become more competitive in the global economy.

3. Return on Investment (25%)

EDA seeks to fund applications that demonstrate a high return on EDA's investment by demonstrating that the project will:

• Lead to the creation and/or retention of jobs, particularly high wage jobs for a particular community,

• Serve as a catalyst for private sector investment, and/or

• Be likely to stimulate economic development by demonstrating a high probability of leading to actionable projects or identifying specific benchmarks that will measure progress towards outputs.

Please note that the first two criteria above will be applied to applications for construction assistance, and the third to applications for non-construction assistance.

4. Collaborative Regional Innovation (10%)

EDA seeks to fund applications that support the development and growth of innovation clusters based on existing regional competitive strengths, which may be demonstrated by the extent to which an investment will:

• Promote collaboration among multi-jurisdictional leadership,

• Link and leverage regional assets, and/or

• Implement or build upon effective planning efforts.

5. Public/Private Partnerships (10%)

EDA seeks to fund applications that use both public and private sector resources, and/or leverage complementary investments by other government/public entities and/or non-profits.

All applicants are expected to provide a clear and detailed explanation as to how the proposed project will meet one or more of EDA's core evaluation criteria. For example, an applicant proposing technical assistance to help businesses develop and expand overseas markets via a business incubator or technology-based economic development center, for example, should include a detailed explanation as to how the applicant will assist their clients (start-ups or existing businesses) to develop markets abroad. EDA will consider applications that include such an explanation, including performance measures and deliverables, as applicable, more competitive than those that do not.

Please also see EDA's investment priorities for this notice, which may be found on EDA's Web site at http://www.eda.gov/InvestmentsGrants/InvestmentPriorities.xml. Applicants are encouraged to review these priorities as they develop their projects.

Application Review and Selection Procedures. Throughout the review and selection process, EDA reserves the right to seek clarification in writing from applicants whose applications are being reviewed and considered. Applicants may be asked to clarify objectives and work plans and modify budgets or other specifics necessary to comply with Federal requirements and provide supplemental information required by the agency before award.

1. Optional Preliminary Reviews

EDA offers eligible applicants the option of receiving written feedback on their application before a funding cycle deadline. Ineligible applicants will be informed that they are ineligible for EDA funding. Please see section III.A. of the FFO for eligibility requirements. EDA will conduct a preliminary technical and merit review within 15 business days of its receipt of an application that meets the requirements set out in section V.A. of the FFO. The applicant will receive notification detailing any technical deficiencies identified during the review (for example, an incomplete preliminary engineering report or the need for a co-applicant), as well as an initial assessment of the application's competitiveness based on the criteria described below under “Evaluation Criteria” and in section IV.A. of the FFO. Applicants will be told if their application receives a “non-competitive,” “competitive,” or “highly competitive” rating. Based on this feedback, the applicant may revise and/or supplement the application or submit a substantially revised application by the funding cycle deadline or in time for consideration in a subsequent funding cycle. Note that EDA will apply the same evaluation criteria for conducting preliminary reviews as for reviewing complete applications after the funding cycle deadline. Please read carefully section V.A. of the FFO, which provides information on preliminary review requirements and procedures.

2. Responsiveness and Merit Reviews

EDA's regional office staff will review all complete applications from eligible applicants received by a funding cycle deadline for responsiveness. Applicants that are ineligible for EDA funding will be informed that they are ineligible. Applications that do not contain all forms and required documentation listed in section V.B. of the FFO may be deemed non-responsive and excluded from further consideration. EDA expects all applicants to complete and include all required forms and documentation. However, EDA in its sole discretion reserves the right to consider timely and otherwise complete applications that may contain non-substantive technical deficiencies.

After the responsiveness review, EDA staff will conduct a merit review for all applications determined to be responsive to this announcement. During the merit review process staff will evaluate independently applications based on the evaluation criteria listed below under “Evaluation Criteria” and in section IV.A. of the FFO. EDA staff will evaluate applications according to three categories: “non-competitive,” “competitive,” and “highly competitive.” Applications that are evaluated as “non-competitive” during the merit review will not receive further review. Applications that are evaluated as “competitive” or “highly competitive” will be forwarded to an EDA Investment Review Committee for further evaluation.

EDA staff will notify applicants of the results of the merit review. Please note that notification that an application has been categorized as “competitive” or “highly competitive” is not a guarantee of funding. EDA receives far more competitive applications than it can fund.

3. Investment Review Committee

Each regional office will convene an Investment Review Committee (IRC) that consists of at least four Federal employees. One of the four members of each IRC will be appointed by the Deputy Assistant Secretary for Regional Affairs to represent EDA Headquarters and provide quality control assurance. Each IRC will discuss and evaluate each “competitive” and “highly competitive” application to determine if it meets the program-specific award and application requirements provided in 13 CFR 305.2 for Public Works investments and 13 CFR 307.2 and 307.4 for Economic Adjustment Assistance investments. The IRC also will apply the Selecting Factors set out below.

The IRC will recommend to the Regional Director those applications that merit funding. EDA expects to fund applications evaluated as “highly competitive” under the merit review; however, the IRC may decide not to make a recommendation, or may recommend an application categorized as “competitive” rather than “highly competitive” for several reasons, including the following Selecting Factors:

• A determination that the application better meets the overall objectives of section 2 of PWEDA (42 U.S.C. 3121);

• Relative economic distress of the applicant;

• Financial or management capability of the applicant;

• Availability of program funding;

• Geographic balance in distribution of program funds;

• Balance of diverse project types in the distribution of program funds;

• Balanced funding for a diverse group of organizations, to include smaller and rural organizations, which may form part of a broader consortium to serve diverse populations and areas within the regional office's territory;

• The applicant's performance under previous Federal financial assistance awards;

• A determination that a project is more likely to create jobs in a shorter timeframe; or

• Whether the project will enable BRAC-impacted communities to transition from a military to civilian economy and otherwise respond to economic impacts.

4. Grants Officer

Each region's IRC makes its recommendations to the respective Regional Director, who is the Grants Officer under this notice and who makes the final decision on whether to fund an application. The Regional Director might select a project that was not recommended by the IRC, or not to fund a project that was recommended, based on any of the Selecting Factors described above. The Regional Director's final decision must be consistent with EDA's and the DOC's published policies. Anytime the Regional Director makes a selection that differs from the IRC's recommendation, the Regional Director will document the rationale for the decision in writing.

As part of the selection process, EDA reserves the right to seek clarifications in writing from applicants for those applications deemed to have highest merit in order to facilitate the selection process.

Technical Assistance. Before each funding cycle deadline, EDA will provide technical assistance through its regional offices and via teleconferences and webinars to help assist applicants through the application process. Please see EDA's Web site at http://www.eda.gov/InvestmentsGrants/Grant%20Process.xml for more information on such opportunities. In order to ensure that applicants meet all the requirements for a complete application, EDA encourages applicants to take advantage of these opportunities or to contact the point of contact for their region before submitting an application.

Additionally, an applicant may submit an application in advance of a funding cycle deadline to receive a preliminary review and written feedback on the technical and competitive merits of the proposed project. Please see section V.A. of the FFO for more information on this option.

Intergovernmental Review. Applications submitted under this notice are subject to the requirements of Executive Order (EO) 12372, “Intergovernmental Review of Federal Programs,” if a State has adopted a process under Executive Order 12372 to review and coordinate proposed Federal financial assistance and direct Federal development (commonly referred to as the “single point of contact review process”). All applicants must also give State and local governments a reasonable opportunity to review and comment on the proposed Project, including review and comment from area-wide planning organizations in metropolitan areas, as provided for in 15 CFR part 13. To find out more about a State's process under EO 12372, applicants may contact their State's Single Point of Contact (SPOC). Names and addresses of some States' SPOCs are listed on the Office of Management and Budget's home page at http://www.whitehouse.gov/omb/grants/spoc.html. Section A.11. of Form ED-900 provides more information and allows applicants to demonstrate compliance with EO 12372.

Are there any restrictions on the use of EDA funds?

Regulations, Administrative Requirements, and Cost Principles. Specific regulations, administrative requirements, and cost principles govern the use of EDA funds. The general and administrative requirements for EDA awards are set forth in 13 CFR parts 300-302. Specific application and award requirements for the Public Works and Economic Adjustment Assistance Programs are provided in 13 CFR parts 305 and 307, respectively. Note that EDA funds may not be used directly or indirectly to reimburse any attorneys' or consultants' fees incurred in connection with expediting applications for investment assistance. See 13 CFR 302.10. Please contact the applicable regional office listed in section IX. of the FFO for application and award requirements applicable to the GCCMIF Program. The uniform administrative requirements for DOC grants and cooperative agreements are codified at 15 CFR parts 14 and 24, as applicable. Note that for EDA's purposes, 15 CFR part 14 governs awards made to institutions of higher education and non-profit organizations and 15 CFR part 24 governs awards made to States and local governments. Funds awarded cannot necessarily pay for all the costs that the recipient may incur in the course of carrying out the project. Allowable costs under an EDA award are determined in accordance with the following regulations (incorporated by reference at 15 CFR parts 14 and 24): (i) 2 CFR part 220, “Cost Principles for Educational Institutions (OMB Circular A-21)”; (ii) 2 CFR part 225, “Cost Principles for State, Local and Indian Tribal Governments (OMB Circular A-87)”; (iii) 2 CFR part 230, “Cost Principles for Nonprofit Organizations (OMB Circular A-122)”; and (iv) Federal Acquisition Regulation Subpart 31.2, “Contracts with Commercial Organizations,” codified at 48 CFR 31.2. Applicable administrative requirements and Federal cost principles are incorporated by reference into the terms and conditions of each EDA award. Generally, costs that are allowable include salaries, supplies, and other expenses that are reasonable and necessary for the completion of the scope of work. Indirect costs are not allowed on construction projects under this notice.

Nonrelocation. Applicants are advised that should an application be selected for award, the recipient will be required to adhere to a special award condition relating to EDA's nonrelocation policy as follows:

In signing this award of financial assistance, Recipient(s) attests that EDA funding is not intended by the Recipient to assist its efforts to induce the relocation of existing jobs within the U.S. that are located outside of its jurisdiction to within its jurisdiction in competition with other U.S. jurisdictions for those same jobs. In the event that EDA determines that its assistance was used for those purposes, EDA retains the right to pursue appropriate enforcement action in accord with the Standard Terms and Conditions of the Award, including suspension of disbursements and termination of the award for convenience or cause, which may include the establishment of a debt requiring the Recipient to reimburse EDA.

For purposes of ensuring that EDA assistance will not be used to merely transfer jobs from one location in the United States to another, each applicant must inform EDA of all employers that constitute primary beneficiaries of the project assisted by EDA. EDA will consider an employer to be a “primary beneficiary” if the applicant estimates that such employer will create or save 100 or more permanent jobs as a result of the investment assistance, provided that such employer also is specifically named in the application as benefiting from the project, or is or will be located in an EDA-assisted building, port, facility, or industrial, commercial, or business park constructed or improved in whole or in part with investment assistance prior to EDA's final disbursement of funds. In smaller communities, EDA may extend this policy to the relocation of 50 or more jobs.

Application Submission Requirements and Procedures

How can my organization submit an application? EDA will accept applications electronically through http://www.grants.gov as detailed in section V.H. of the FFO or in hard copy to the applicable regional office listed above under ADDRESSES and in section IX. of the FFO.

Optional Preliminary Review Requirements. As noted above under “Application Review and Selection Procedures” and in section V.A. of the FFO, eligible applicants have the option of requesting preliminary feedback on an application's technical and competitive merits from EDA at any time. Once an application is received, EDA will conduct a preliminary technical and merit review and provide written feedback to the applicant not later than 15 business days from the date of EDA's receipt of the application. EDA will apply the same evaluation criteria for conducting preliminary reviews as for reviewing complete applications after the funding cycle deadline. In addition, EDA will provide the applicant with its assessment from a preliminary review based only on the application submitted by the applicant. Please read section V.A. of the FFO carefully for complete information on what an applicant must submit for a preliminary review.

Applicants that submit the required information for a preliminary review will be notified of any technical deficiencies and if an application is evaluated as “non-competitive,” “competitive,” or “highly competitive.” The applicant may modify or supplement the application based on this feedback or submit a substantially revised application by the funding cycle deadline or in time for consideration in a future funding cycle, and these decisions rests solely with the applicant.

An applicant that elects to receive feedback should take care to submit the application sufficiently in advance of the funding cycle deadline so that EDA can provide feedback and the applicant can revise and/or provide additional documentation or submit a new application by the funding cycle deadline. EDA will make best efforts to review and provide feedback on applications submitted close to a funding cycle deadline; however EDA may not be able to provide feedback in a compressed timeframe. If an applicant does not submit its application in time for EDA to conduct a preliminary review for a particular funding cycle, EDA will still provide feedback to the applicant, but the feedback may be provided after the funding cycle deadline. However, if, in such a situation, if EDA determines an application is substantially deficient, the application will not receive further consideration during that funding cycle. If the applicant wishes for the application to be considered in a future funding cycle, the applicant must submit additional documentation to cure the deficiency or complete the documentation by the relevant deadline.

If EDA's written preliminary review instructs that an application is deficient or incomplete and the applicant does not revise and or supplement by the funding cycle deadline, EDA will not give the application further consideration. Applicants are strongly encouraged to submit as complete an application as possible. EDA's staff will be better able to perform a more comprehensive assessment and provide clear guidance if the applicant provides more and higher quality information. In all cases, an applicant must submit a complete application by a funding cycle deadline to be considered for funding in that funding cycle. Please see section V.B. of the FFO for information on a complete application.

Applicants are urged to seek technical assistance from EDA before submitting an application; however, in no event will a potential applicant be denied the ability to submit an application for EDA's consideration. Please note that the preliminary review described in this subsection is optional and is not required. An applicant retains full discretion to submit a complete application at any time.

What does a complete application package contain? The applicant must complete and submit the Application for Investment Assistance (Form ED-900) and accompanying supplemental information, the Federal grant assistance forms from the Standard Form (SF) 424 family, and certain DOC (CD) forms, as appropriate, as part of a complete application package. The specific SF forms required with the Form ED-900 depend on whether the applicant seeks construction or non-construction assistance. The following will assist the applicant in determining which forms are required for a complete application. Please see section V.D. of the FFO for information on obtaining application packages.

1. Construction Assistance

An applicant seeking assistance for a project with construction components is required to complete and submit the following:

• Form ED-900 (Application for Investment Assistance) and accompanying supporting documentation. One form per project is required. Please read the paragraphs below carefully for important information on submitting a complete Form ED-900.

• One Form SF-424 (Application for Federal Assistance) from each co-applicant, as applicable.

• Form SF-424C (Budget Information—Construction Programs). One form per project is required.

• One Form SF-424D (Assurances—Construction Programs) from each co-applicant, as applicable.

• One Form CD-511 (Certification Regarding Lobbying) from each co-applicant, as applicable.

2. Non-Construction Assistance

An applicant seeking assistance for a project without construction components is required to complete and submit the following:

• Form ED-900 (Application for Investment Assistance) and accompanying supporting documentation. One form per project is required. Please read the paragraphs below carefully for important information on submitting a complete Form ED-900.

• One Form SF-424 (Application for Federal Assistance) from each co-applicant, as applicable.

• Form SF-424A (Budget Information—Non-Construction Programs). One form per project is required.

• One Form SF-424 B (Assurances—Non-Construction Programs) from each co-applicant, as applicable.

• One Form CD-511 (Certification Regarding Lobbying) from each co-applicant, as applicable.

In addition, applicants may be required to provide certain lobbying information using Form SF-LLL (Disclosure of Lobbying Activities). Form ED-900 provided detailed guidance to help assess whether Form SF-LLL is required and how to access it. Please note that, if applicable, one Form SF-LLL must be submitted for each co-applicant that has used or plans to use non-Federal funds for lobbying in connection with this competition. Some applicants, including non-profits and first-time recipients of DOC funding, may be required to complete an individual background screening using Form CD-346 before an award may be made; however, please note that this form is not required for a complete application, and EDA will request it when necessary.

3. Content of Form ED-900 and Instructions for Submitting a Complete Application

This section provides detailed instructions on what to expect when completing Form ED-900. Please note that some documentation that Form ED-900 advises may be submitted at a later date must be submitted by a funding cycle deadline to be considered for funding in that cycle.

Form ED-900 is divided into lettered sections that correspond to the specific EDA program for which an applicant is applying and that address all of EDA's statutory and regulatory requirements. Applicants applying under this opportunity will select that they are applying only for Public Works or Economic Adjustment Assistance on the first page of Section A of the form and the correct sections and exhibits required will automatically populate the form. As noted in section II.A.3. of the FFO, GCCMIF applicants should apply in the same manner that they would apply for Economic Adjustment Assistance. Based on program and project type, the following table details the sections and exhibits in Form ED-900 that the applicant must complete as well as the required supporting documentation.

Any application that does not have all of the required Form ED-900 sections and supplemental documentation will be considered incomplete. However, EDA, in its sole discretion, may determine that an omission was a non-substantial technical deficiency that can easily be rectified or cured and continue its consideration of the application in that funding cycle.

EDA program | Required form ED-900 sections
Public Works | Complete Sections A, B, and M and Exhibits A, D, and E.
Economic Adjustment | Complete Sections A, B, and K and Exhibit C. Also complete Sections M and Exhibits A, D, and E if the application has construction components and Section N if the application has only design/engineering requirements. Complete Section E if the application has no construction components.
For Design and Engineering Assistance under the Public Works or Economic Adjustment Programs | Complete Sections A, B, and N and Exhibit C.
Revolving Loan Fund Assistance under the Economic Adjustment Program | Complete Sections A, B, E, K, and L and Exhibit C.

In general, EDA does not typically reimburse pre-award project costs. Applicants that are in need of pre-award project cost reimbursement should work closely with EDA staff at the applicable regional office to determine if their pre-award costs may be considered for reimbursement. Note that for these costs to be eligible for reimbursement, the applicant must competitively procure services pursuant to the Federal Government's procurement procedures. Procurement requirement for institutions of higher education and non-profits are set out at 15 CFR 14.40-14.48 and requirements for State and local governments are set out at 15 CFR 24.36. Please note that these pre-award costs will only be considered for reimbursement if an applicant receives an award. As noted under section II.A. of the FFO, neither EDA nor DOC will be held responsible for application preparation expenditures, which are distinguishable from pre-award project costs.

Please note that all required documentation submitted for a complete application, including any required engineering reports and environmental narratives, must be current.

In addition to the required application forms, applicants must also submit certain supporting documentation for a complete application. Because of EDA's new funding cycle process, some instructions contained in Form ED-900 will be superseded by this notice and the companion FFO. Some documentation that Form ED-900 advises may be submitted at a later date must be submitted by a funding cycle deadline to be considered for funding in that cycle. The following list details the required submissions for applications by project type.

For all types of projects, both construction and non-construction, the following are required:

• Projects must be consistent with the region's Comprehensive Economic Development Strategy (CEDS) or alternate EDA-approved strategic planning document that meets EDA's CEDS or strategy requirements. A summary of EDA's CEDS and strategy requirements can be found at http://www.eda.gov/InvestmentsGrants/Grant%20Process.xml. See also section A.3. of Form ED-900, which requires applicants to identify the relevant plan. If EDA does not already have the applicable plan, the applicant may be required to provide it. Please contact the applicable regional office listed in section IX of the FFO for more information.

• Documentation confirming non-EDA funding, for examples letters of commitment and other documentation as necessary. For example, if bonds are contemplated as match, counsel opinion of the applicant's bonding authority and eligibility of the bonds for use as match, along with full disclosure of the type of bonds and the schedule of the applicant's intended bond issue are required. Please contact the applicable regional office listed in section IX. of the FFO with questions on this requirement. (See also section A.9. of Form ED-900).

For construction projects only, the following are required:

• Maps of the project site (U.S. Geological Survey (USGS) map(s) and Federal Emergency Management Agency (FEMA) floodplain map (if applicable)) with project components and beneficiaries noted (see section A.2. of Form ED-900).

• Letters of commitment and assurances of compliance (Exhibit A to Form ED-900) from private beneficiaries of the proposed project (see section B.5. of Form ED-900).

• Comments from the metropolitan area review/clearinghouse agency, if applicable. If the comment period has not expired or comments were not received, a copy of the applicant's request for comments is sufficient (see section M.1. of Form ED-900).

• A preliminary engineering report (all required elements are listed in section M.3. of Form ED-900; special formatting is not required). For additional guidance on preparing a preliminary engineering report, see EDA's Web site at http://www.eda.gov/InvestmentsGrants/Grant%20Process.xml.

• An environmental narrative that will enable EDA to comply with its National Environmental Policy Act (NEPA) responsibilities. An environmental narrative outline that details required components may be accessed on EDA's Web site http://www.eda.gov/InvestmentsGrants/Grant%20Process.xml. Please note that the environmental narrative required for a complete application does not need to include all applicable approvals at the time of submission. Applicants must include Appendix A (Applicant's Certification Clause) to the environmental narrative signed by each co-applicant, as applicable.

• Copies of any existing correspondence with or sign-offs/approvals from other agencies with respect to the project, such as the U.S. Army Corps of Engineers, the U.S. Fish and Wildlife Service, or the State or Tribal Historic Preservation Officer. Please note that an applicant will not be required to submit all required sign-offs/approvals by a funding cycle deadline for an application to be considered complete. If the application does not include sign-offs/approvals from appropriate agencies and EDA subsequently determines that these are required, the applicant will be required to obtain them before EDA will approve an award. For additional information about this requirement, please contact the applicable Regional Environmental Officer (REO) listed in section IX. of the FFO.

• Copies of any other environmental studies that have already been completed for the project site, if available.

• Comments from the State Clearinghouse to comply with Executive Order 12372, if applicable. If the comment period has not expired or comments were not received, a copy of the applicant's request for comments is sufficient. Detailed information on the State Clearinghouse process can be accessed at http://www.whitehouse.gov/omb/grants_spoc.

For Revolving Loan Fund projects only, the following is required:

• RLF Plan for the RLF's financial management. See EDA's regulation at 13 CFR 307.9 for more information on requirements for RLF Plans.

For non-profit applicants only, including each non-profit co-applicant, if applicable, the following are required:

• Certificate of good standing from the State in which the non-profit is incorporated, if applicable.

• A copy of the organization's current Articles of Incorporation, or other formation documents, as applicable, and By-Laws.

• Resolution (or letter) from a general purpose subdivision of State government acknowledging that the organization is acting in cooperation with officials of that political subdivision.

As noted under section IV.A. of the FFO, applicants are expected to provide a clear and detailed explanation as to how the proposed project will meet one or more of EDA's core evaluation criteria. EDA will consider applications that include such an explanation, with performance measures and deliverables, as applicable, as more competitive than those that do not.

Award Administration Information

How will EDA notify applicants? EDA expects to notify applicants of its decision within 20 business days of a funding cycle deadline. EDA will retain unsuccessful applications in the applicable regional office in accordance with EDA's record retention schedule. EDA will notify applicants whose projects EDA expects to fund through the competitive evaluation process via a Non-Binding Commitment (NBC) letter. Although the letter expresses the applicant's success in the competitive portion of the evaluation process, it will not legally obligate EDA to make an award to the applicant. Once an applicant receives this letter, the applicant will be required to complete certain due diligence requirements and pass a set of technical reviews by EDA staff to ensure compliance with all applicable rules and regulations, including title, project ownership, environmental, and other requirements, as applicable. If the applicant successfully fulfills all requirements to EDA's satisfaction within the allotted time frame, the expectation is that EDA will proceed with the official award and obligation of funds.

If the application is selected for funding and successfully completes all due diligence requirements, the EDA Grants Officer will issue the grant award (Form CD-450), which is the authorizing financial assistance award document. By signing the Form CD-450, the recipient agrees to comply with all award provisions. EDA will provide the Form CD-450 by mail or overnight delivery to the appropriate business office of the recipient's organization. The recipient must sign and return the Form CD-450 without modification within 30 days of receipt. If an applicant is awarded funding, neither DOC nor EDA is under any obligation to provide any additional future funding in connection with that award or to make any future award(s). Amendment or renewal of an award to increase funding or to extend the period of performance is at the discretion of the DOC and of EDA. Applicants that do not receive an NBC letter or denial letter will be so advised and given the option to carry over their application for consideration in the next funding cycle.

Information disclosure. The Freedom of Information Act (5 U.S.C. 552 and DOC regulations at 15 CFR part 4) (FOIA) sets forth the process and procedure DOC follows to make requested material, information, and records publicly available. Unless prohibited by law and to the extent required under the FOIA, contents of applications, proposals, and other information submitted by applicants may be released in response to FOIA requests. Applicants should be aware that EDA may make certain application information publically available. The applicant should notify EDA if it believes any application information to be confidential.

“Special Need” Criteria. The following criteria are published in accordance with 13 CFR 301.3(a)(1)(iii) and define what may constitute a “Special Need” (as defined in 13 CFR 300.3) sufficient to make a project eligible for Public Works or Economic Adjustment investment assistance, as described in section III.B. of the FFO. Only applications for Public Works or Economic Adjustment Assistance may be found eligible under a “Special Need,” and EDA will determine the maximum allowable investment rates for such projects. The applicant will be asked to present appropriate economic or demographic statistics to demonstrate a “Special Need.”

A project is eligible pursuant to a “Special Need” if the project is located in a region that meets one of the criteria described below:

1. Closure or restructuring of industrial firms or loss of a major employer essential to the regional economy. A region has experienced either:

a. An actual closure or restructuring of a firm(s) within the past 12 months prior to application, resulting in sudden job losses and meeting the following dislocation criteria; or

b. A threat of closure that results from a public announcement of an impending closure or restructuring of a firm(s) expected to occur within two years of application; AND

c. Such actual or threatened closure results in sudden job losses meeting the following dislocation criteria:

• For regions with a population of at least 100,000, the actual or threatened dislocation is 500 jobs, or one percent of the civilian labor force (CLF), whichever is less.

• For regions with a population up to 100,000, the actual or threatened dislocation is 200 jobs, or one percent of the CLF, whichever is less.

2. Substantial out-migration or population loss. An applicant seeking eligibility under this criterion will be asked to present appropriate and compelling economic or demographic data to demonstrate the special need.

3. Underemployment, meaning employment of workers at less than full-time or at less skilled tasks than their training or abilities permit. An applicant seeking eligibility under this criterion will be asked to present appropriate and compelling economic and demographic data to demonstrate the special need.

4. Military base closures or realignments, defense contractor reductions-in-force, or Department of Energy defense-related funding reductions.

a. A military base closure refers to a military base that was closed or is scheduled for closure, realignment, or growth pursuant to the base closure and realignment process or other Department of Defense (DOD) process. Unless further extended by the Assistant Secretary, the region is eligible from the date of DOD's recommendation for closure, realignment, or growth until five years after the actual date of closing of the installation or five years after the announced realignment or growth actually occurs.

b. A defense contractor reduction-in-force refers to a defense contractor(s) experiencing defense contract cancellations or reductions resulting from official DOD announcements and having aggregate value of at least $10 million per year. Actual dislocations must have occurred within one year of application to EDA and threatened dislocations must be anticipated to occur within two years of application to EDA. Defense contracts that expire in the normal course of business will not be considered to meet this criterion.

c. A Department of Energy defense-related funding reduction refers to a Department of Energy facility that has experienced or will experience a reduction of employment resulting from its defense mission change. The area is eligible from the date of the Department of Energy announcement of reductions until five years after the actual date of reduced operations at the installation.

5. Natural or other major disasters or emergencies, including terrorist attacks. Unless further extended by the Assistant Secretary, a region that has received one of the following disaster declarations is eligible to apply for EDA assistance for a period of 18 months after the date of declaration:

a. A Presidentially Declared Disaster declared under the Robert T. Stafford Disaster Relief and Emergency Assistance Act, as amended (42 U.S.C. 5121 et seq.); or

b. A Federally Declared Disaster pursuant to the Magnuson-Stevens Fishery Conservation and Management Act, as amended (16 U.S.C. 1861a(a)); or

c. A Federally Declared Disaster pursuant to the Consolidated Farm and Rural Development Act, as amended (7 U.S.C. 1961); or

d. A Federally Declared Disaster pursuant to the Small Business Act, as amended (Pub. L. 85-536, 72 Stat. 384 (1958)).

6. Extraordinary depletion of natural resources or other impact attributable to a new or revised Federal regulation or policy that will have a significant impact on a community to avoid an extraordinary depletion of natural resources. For example, in the case of a Federal fishing regulation designed to promote and sustain a community and its fishery in the long-term, EDA could quickly help a coastal community respond to any short-term economic dislocations.

7. Communities undergoing transition of their economic base as a result of changing trade patterns. An area certified as eligible by the North American Development Bank (NADBank) Program or the Community Adjustment and Investment Program (CAIP).

8. Other special need. The area is experiencing other special or extraordinary economic adjustment needs, as determined by the Assistant Secretary.

Other Requirements

The Department of Commerce Administrative and National Policy Requirements: Administrative and national policy requirements for all DOC awards are contained in the Department of Commerce Pre-Award Notification Requirements for Grants and Cooperative Agreements, published in the Federal Register on February 11, 2008 (73 FR 7696). This notice may be accessed by entering the Federal Register volume and page number provided in the previous sentence at the following Internet Web site: http://www.gpoaccess.gov/fr/index.html.

Environmental and Historic Preservation Requirements: All applicants for EDA construction assistance are required to provide adequate environmental information. Each application will be reviewed by EDA for compliance with the National Environmental Policy Act of 1969, as amended (NEPA). During the NEPA review process, applicants may be instructed to contact the designated State Historic Preservation Officer (SHPO) and/or participate in consultation with a tribe and/or a Tribal Historic Preservation Officer (THPO), provide approvals from other governmental agencies, or provide more detailed environmental information. The implementing regulations of NEPA require EDA to provide public notice of the availability of project-specific environmental documents, such as environmental impact statements, environmental assessments, findings of no significant impact, and records of decision, to the affected public, as specified in 40 CFR 1506.6(b). For further guidance and information, please contact the REO in the appropriate regional office listed in section IX. of the FFO, or refer to the Environmental and Historic Preservation information on EDA's Web site, available at http://www.eda.gov/InvestmentsGrants/Grant%20Process.xml.

OMB Circular A-133 Audit Requirements: Single or program-specific audits shall be performed in accordance with the requirements contained in OMB Circular A-133, “Audits of States, Local Governments, and Non-Profit Organizations,” and the related Compliance Supplement. OMB Circular A-133 requires any non-Federal entity (i.e., non-profit organizations, including non-profit institutions of higher education and hospitals, States, local governments and Indian tribes) that expends Federal awards of $500,000 or more in the recipient's fiscal year to conduct a single or program-specific audit in accordance with the requirements set out in the Circular.

The applicant is reminded that EDA or the DOC's Office of Inspector General also may conduct an audit of an award at any time.

Universal Identifier, and Central Contractor Registration Requirements and Reporting Under the Transparency Act

DUNS Numbers and CCR Registration: Be advised that all applicants for Federal assistance are required to obtain a universal identifier in the form of Dun and Bradstreet Data Universal Numbering System (DUNS) numbers and maintain a current registration in the Central Contractor Registration (CCR) database. Per the requirements of 2 CFR part 25, each applicant must:

• Be registered in the CCR before submitting an application;

• Maintain an active CCR registration with current information at all times during which it has an active Federal award or an application under consideration by an agency; and

• Provide its DUNS number in each application or plan it submits to the agency.

Please see also the Federal Register notice published September 14, 2010 at 75 FR 55671.

Reporting Under the Transparency Act: All recipients of a Federal award made on or after October 1, 2010 are required to comply with reporting requirements under the Federal Funding Accountability and Transparency Act of 2006 (Transparency Act) per the requirements of 2 CFR part 170. In general, all recipients are responsible for reporting subawards of $25,000 or more. In addition, recipients that meet certain criteria are responsible for reporting executive compensation. Applicants must ensure they have the necessary processes and systems in place to comply with the reporting requirements should they receive funding. Please see also the Federal Register notice published September 14, 2010 at 75 FR 55663.

Paperwork Reduction Act: This document contains collection-of-information requirements subject to the Paperwork Reduction Act (PRA) and approved by OMB: Form ED-900 (Application for Investment Assistance) (OMB Control Number 0610-0094); Form SF-424 (Application for Financial Assistance) (OMB Control Number 4040-0004); Form SF-424A (Budget Information—Non-Construction Programs) (OMB Control Number 4040-0006); Form SF-424B (Assurances—Non-Construction Programs) (OMB Control Number 4040-0007); Form SF-424C (Budget Information—Construction Programs) (OMB Control Number 4040-0008), SF-424D (Assurances—Construction Programs) (OMB Control Number 4040-0009); Form SF-LLL (Disclosure of Lobbying Activities) (OMB Control Number 0348-0046); and Form CD-346 (Applicant for Funding Assistance) (OMB Control Number 0605-0001). Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: October 7, 2010.
John Fernandez,
Assistant Secretary of Commerce for Economic Development.

[FR Doc. 2010-25896 Filed 10-13-10; 8:45 am]

BILLING CODE 3510-24-P